DEPARTMENT OF STATE

[Public Notice 11033]

30-Day Notice of Proposed Information Collection: Request for Determination of Possible Loss of United States Citizenship

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to March 26, 2020.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Clifton Oliphant at SA-17, 10th Floor, Washington, DC 20522-1710, who may be reached on 202-485-6020 or at OliphantCE@state.gov.

SUPPLEMENTARY INFORMATION:

• Title of Information Collection: Request for Determination of Possible Loss of United States Citizenship.

• OMB Control Number: 1405-0178.

• Type of Request: Revision of a currently approved collection.

• Originating Office: Bureau of Consular Affairs, Overseas Citizens Services (CA/OCS).

• Form Number: DS-4079.

• Respondents: United States citizens.

• Estimated Number of Respondents: 3,250.

• Estimated Number of Responses: 3,250.

• Average Time Per Response: 15 minutes.

• Total Estimated Burden Time: 812 hours.

• Frequency: On occasion.

• Obligation to Respond: Voluntary, but if not completed, may not obtain or retain benefits.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The purpose of the DS-4079 questionnaire is to determine current citizenship status and the possibility of loss of United States citizenship. The information provided assists consular officers and the Department of State in determining if the U.S. citizen has lost his or her nationality by voluntarily performing an expatriating act with the intention of relinquishing United States nationality. 8 U.S.C. 1104, 1481 and 1501 are sources of authority pertaining to this collection of information.

Methodology

The Bureau of Consular Affairs will post this form on Department of State websites to give respondents the opportunity to complete the form online or print the form and fill it out manually and submit the form in person or by fax or mail.

Scott Renner,
Managing Director.

[FR Doc. 2020-03661 Filed 2-24-20; 8:45 am]

BILLING CODE 4710-06-P